SECURITIES AND EXCHANGE COMMISSION

[File No. 500-1]

LifeHealthCare, Inc., Smartlinx, Inc., and Total Apparel Group, Inc.; Order of Suspension of Trading

June 11, 2014.

It appears to the Securities and Exchange Commission that there is a lack of current and accurate information concerning the securities of LifeHealthCare, Inc. because it has not filed any periodic reports since the period ended June 30, 2010.

It appears to the Securities and Exchange Commission that there is a lack of current and accurate information concerning the securities of Smartlinx, Inc. because it has not filed any periodic reports since the period ended March 31, 2010.

It appears to the Securities and Exchange Commission that there is a lack of current and accurate information concerning the securities of Total Apparel Group, Inc. because it has not filed any periodic reports since the period ended September 30, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 11, 2014, through 11:59 p.m. EDT on June 24, 2014.

By the Commission.
Jill M. Peterson,
Assistant Secretary.

[FR Doc. 2014-13988 Filed 6-11-14; 4:15 pm]

BILLING CODE 8011-01-P